DEPARTMENT OF THE INTERIOR

Bureau of Land Management

[NV-010-1990-EX]

Record of Decision; South Operations Area Project Amendment, Eureka Co., NV

AGENCY: Bureau of Land Management, Interior.

ACTION: Notice of Record of Decision.

SUMMARY: This notice announces the signing of the Record of Decision on the proposed South Operations Area Project Amendment. The decision to approve the mining operation will be in full force and effect, when the Field Office Manager signs the Record of Decision

EFFECTIVE DATES: The decision to approve the mining operation will be in full force and effect, on July 26, 2002 when the Field Office Manager signs the Record of Decision. A petition for a stay of the decision must be filed in accordance with 43 CFR 4.411 and 4.413. If you believe you are adversely affected by the Record of Decision you have 30 days, from the date of publication of this notice, to file a Notice of Appeal in the Elko Field Office (See 43 CFR 4.411 and 4.413).

ADDRESSES: You may obtain a copy of the Record of Decision from: Bureau of Land Management, Elko Field Office, 3900 Idaho Street, Elko, NV 89801, and you must also send a copy to: Office of the Regional Solicitor, Salt Lake City Federal Building, 125 South State Street, Salt Lake City, UT 84138.

FOR FURTHER INFORMATION CONTACT: Roger Congdon, Project Coordinator, Elko Field Office, Bureau of Land Management, 3900 Idaho Street, Elko, Nevada 89801, (775) 753-0200.

SUPPLEMENTARY INFORMATION: As authorized by Section 202 of the National Environmental Policy Act of 1969, the Bureau of Land Management (BLM), Elko Field Office prepared an Environmental Impact Statement (EIS) under a third party contract, to analyze impacts and alternatives for Newmont Mining Corporation's proposed South Operations Area Project Amendment. The proposed project expansion would result in disturbance of an additional 1392 acres of federal and private lands located in Eureka County, Nevada. The Notice of Availability of the Final EIS was published in the Federal Register April 26, 2002 (67 FR 20821).

The Elko Field Office Manager will sign the Record of Decision (ROD) concurrent with this notice approving the project and incorporating mitigating modifications analyzed under the proposed action. The decision to approve the mining operation will be in full force and effect, effective when the Field Office Manager signs the Record of Decision. A petition for a stay of the decision must be filed in accordance with the regulations at 43 CFR part 4.

Copies of the ROD can be obtained from the Elko Field Office at 3900 Idaho Street, Elko, Nevada, or by calling (775) 753-0200 and requesting a copy of the document. You may also download the document from the Elko Field office internet site at http://www.nv.blm.gov/elko. Additionally, we will mail a copy of the ROD to individuals, agencies or companies that commented during the scoping process, or on the Draft and Final EIS.

Dated: July 10, 2002.
Helen Hankins,
Elko Field Office Manager.

[FR Doc. 02-18494 Filed 7-25-02; 8:45 am]

BILLING CODE 4310-HC-P